NUCLEAR REGULATORY COMMISSION

[Docket Nos. 50-317 and 50-318]

Calvert Cliffs Nuclear Power Plant, Inc.; Notice of Withdrawal of Application for Amendment to Facility Operating License

The U.S. Nuclear Regulatory Commission (NRC or the Commission) has granted the request of Calvert Cliffs Nuclear Power Plant, Inc. (the licensee) to withdraw its application dated October 14, 2003, for a proposed amendment to Renewed Facility Operating License Nos. DPR-53 and DPR-69 for Calvert Cliffs Nuclear Power Plant, Unit Nos. 1 and 2, respectively, located in Calvert County, Maryland.

The proposed amendment would have revised the Technical Specifications to change the frequency of surveillance testing for some engineered safety features components.

The Commission had previously issued a Notice of Consideration of Issuance of Amendment published in the Federal Register on November 25, 2003 (68 FR 66133). However, by letter dated December 19, 2005, the licensee withdrew the proposed change.

For further details with respect to this action, see the application for amendment dated October 14, 2003, and the licensee's letter dated December 19, 2005, which withdrew the application for the license amendment. Documents may be examined, and/or copied for a fee, at the NRC's Public Document Room (PDR), located at One White Flint North, Public File Area O-1F21, 11555 Rockville Pike (first floor), Rockville, Maryland. Publicly-available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 9th day of January 2006.
For the Nuclear Regulatory Commission.
Patrick D. Milano,
Senior Project Manager, Plant Licensing Branch I-1, Division of Operating Reactor Licensing, Office of Nuclear Reactor Regulation.

[FR Doc. E6-350 Filed 1-12-06; 8:45 am]

BILLING CODE 7590-01-P